DEPARTMENT OF EDUCATION

Office of Special Education and Rehabilitative Services; Grant Applications Under Part D, Subpart 2 of the Individuals With Disabilities Education Act

Correction

In notice document 01-24403 beginning on page 49647 in the issue of Friday, September 28, 2001, make the following correction:

On page 49653, in the first column of the table, in the sixth entry, “84.324A” should read, “84.327A”.

[FR Doc. C1-24403 Filed 10-11-01; 8:45 am]

BILLING CODE 1505-01-D

DEPARTMENT OF EDUCATION

Office of Special Education and Rehabilitative Services; Grant Applications Under Part D, Subpart 2 of the Individuals With Dsabilities Education Act

Correction

In notice document 01-25130 beginning on page 51408 in the issue of Tuesday, October 9, 2001, make the following correction:

On page 51415, in the first column of the table, in the third entry, “84.325D” should read, “84.325E”.

[FR Doc. C1-25130 Filed 10-11-01; 8:45 am]

BILLING CODE 1505-01-D

DEPARTMENT OF HEALTH AND HUMAN SERVICES

Centers for Medicare & Medicaid Services

[CMS-1175-N]

RIN 0938-ZA08

Medicare Program; Hospice Wage Index Fiscal Year 2002

Correction

In notice document 01-23820 beginning on page 49454 in the issue of Thursday, September 27, 2001, make the following correction:

On page 49463, in the second column, in the ninth grouped entry, “Knox, TN” should be added to follow “Blount, TN”.

[FR Doc. C1-23820 Filed 10-11-01; 8:45 am]

BILLING CODE 1505-01-D

DEPARTMENT OF JUSTICE

[AAG/A Order No. 243-2001]

Privacy Act of 1974; System of Records

Correction

In notice document 01-22449 beginning on page 46812 in the issue of Friday, September 7, 2001, make the following correction:

On page 46813, in the first column, beginning in the sixth line, “(by 30 days from the publication date of this notice).” should read, “October 9, 2001.”

[FR Doc. C1-22449 Filed 10-11-01; 8:45 am]

BILLING CODE 1505-01-D

SECURITIES AND EXCHANGE COMMISSION

[Securities Exchange Act of 1934 Rel. No. 44839/September 24, 2001]

Order Regarding Government Securities Reconciliations

Correction

In notice document 01-24329 appearing on page 49727 in the issue of Friday, September 28, 2001, make the following correction:

On page 49727, in the third column, the Release No. and subject title should be as set forth above.

[FR Doc. C1-24329 Filed 10-11-01; 8:45 am]

BILLING CODE 1505-01-D